DEPARTMENT OF TRANSPORTATION

Federal Highway Administration

Notice of Final Federal Agency Action on Proposed Transportation Project in Illinois

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to a proposed highway and transit project within the Tier 2 Elgin O'Hare—West Bypass project corridor, which is located along the Elgin-O'Hare Expressway/Thorndale Avenue between Chicago O'Hare International Airport (O'Hare) and Lake Street/US Route 20, and on a proposed alignment connecting I-90 and I-294 along the west side of O'Hare. Those actions grant licenses, permits and approvals for the project.

DATES: By this notice, the FHWA is advising the public of final agency actions subject to 23 U.S.C. 139(l)(1). A claim seeking judicial review of the Tier 2 Federal agency actions of the proposed highway and transit project will be barred unless the claim is filed on or before May 18, 2013. If the Federal law that authorizes judicial review of a claim provides a time period of less than 150 days for filing such claim, then that shorter time period still applies.

FOR FURTHER INFORMATION CONTACT: Mr. Norman R. Stoner, P.E., Division Administrator, Federal Highway Administration, 3250 Executive Park Drive, Springfield, Illinois 62703, Phone: (217) 492-4600, Email address: Norman.Stoner@dot.gov. The FHWA Illinois Division Office's normal business hours are 7:30 a.m. to 4:15 p.m. You may also contact Mr. John Fortmann, P.E., Illinois Department of Transportation, Acting Deputy Director of Highways, Region One Engineer, 201 West Center Court, Schaumburg, Illinois 60196, Phone: (847) 705-4000. The Illinois Department of Transportation Region One's normal business hours are 8:00 a.m. to 4:30 p.m.

SUPPLEMENTARY INFORMATION: Notice is hereby given that the FHWA and other Federal agencies have taken final agency actions by issuing licenses, permits and approvals for the following highway and transit project in the State of Illinois: improving the Elgin-O'Hare Expressway/Thorndale Avenue corridor to a toll road with three basic lanes in each direction and space reserved in the median for transit accommodations; construction of a new toll road between I-90 and I-294 (known as the West Bypass) with two basic lanes in each direction and space reserved on the east side of the north leg of the West Bypass for transit accommodations; and lane additions on I-90, I-290, and I-294. The actions by the Federal agencies, and the laws under which such actions were taken, are described in the Tier 2 Final Environmental Impact Statement (FEIS) for the project approved on October 30, 2012; and Record of Decision (ROD) issued on December 12, 2012; and other documents in the FHWA administrative record. The FEIS, ROD and other documents in the FHWA administrative record are available by contacting FHWA or the Illinois Department of Transportation at the addresses above. Project information can be viewed and downloaded from the project Web site http://www.elginohare-westbypass.org. The FEIS can also be downloaded from http://www.dot.il.gov/desenv/env.html, or hard copies of the FEIS and the ROD are available upon request.

This notice applies to all Federal agency decisions as of the issuance date of this notice and all laws under which such actions were taken, including, but not limited to:

1. General: National Environmental Policy Act (NEPA) [42 U.S.C. 4321-4351] Federal-Aid Highway Act [23 U.S.C. 109 and 23 U.S.C. 128].

2. Air: Clean Air Act [42 U.S.C. 7401-7671(q)].

3. Land: Section 4(f) of the Department of Transportation Act of 1966 [49 U.S.C. 303 and 23 U.S.C. 138].

4. Wildlife: Endangered Species Act [16 U.S.C. 1531-1544 and Section 1536]; Migratory Bird Treaty Act [16 U.S.C. 703-712].

5. Historic and Cultural Resources: Section 106 of the National Historic Preservation Act of 1966, as amended [16 U.S.C. 470(f) et seq].

6. Water Resources: Safe Drinking Water Act [42 U.S.C. 300(f)-300(j)(6)]; Wild and Scenic Rivers Act [16 U.S.C. 1271-1287].

7. Executive Orders: E.O. 11990 Protection of Wetlands; E.O. 11988 Floodplain Management; E.O. 12898 Federal Actions to Address Environmental Justice in Minority Populations and Low Income Populations.

(Catalog of Federal Domestic Assistance Program Number 20.205, Highway Research, Planning and Construction. The regulations implementing Executive Order 12372 regarding intergovernmental consultation on Federal programs and activities apply to this program).

Authority: 23 U.S.C. 139(l)(1).

Issued on: December 12, 2012.
Norman R. Stoner,
Division Administrator, Springfield, Illinois.

[FR Doc. 2012-30472 Filed 12-18-12; 8:45 am]

BILLING CODE 4910-22-P